DEPARTMENT OF THE INTERIOR

National Park Service

Notice of Assessment of Suitability and Non-Suitability for Further Study of Lands Within the Mineral King Addition, the Chimney Rock (AKA Jennie Lakes) Addition, and the Dillonwood Addition of Sequoia and Kings Canyon National Parks for Consideration as Wilderness Areas

SUMMARY: Pursuant to the California Wilderness Act of 1984, and in accordance with National Park Service (NPS) Management Policies 2006 section 6.2.1, the NPS has completed a Wilderness Suitability Assessment (assessment) to determine if the Mineral King, Chimney Rock (AKA Jennie Lakes), and Dillonwood additions to Sequoia and Kings Canyon National Parks meet criteria indicating suitability for preservation as wilderness. The assessment divided the Mineral King addition into two segments, the “backcountry” or undeveloped/unroaded segment, and the “developed” segment, which includes the Mineral King Road and its associated developments. Each of these two segments was separated evaluated for wilderness suitability.

The assessment found that the “backcountry” segment of the Mineral King Addition, and the Chimney Rock Addition: (1) Are predominantly roadless and undeveloped; (2) are greater than 5000 acres in size or of sufficient size as to make practicable their preservation and use in an unimpaired condition; and (3) meet the five wilderness character criteria listed in the 2006 NPS Management Policies.

The assessment also found that the “developed” segment of the Mineral King Addition, and the Dillonwood Addition: (1) Are not predominantly roadless and undeveloped; (2) are not greater than 5000 acres in size or of sufficient size as to make practicable their preservation and use in an unimpaired condition; and (3) do not meet the five wilderness character criteria listed in the 2006 NPS Management Policies.

Based on the findings of this Assessment, the NPS has concluded that the “backcountry” segment of the Mineral King Addition and the Chimney Rock Addition meet the criteria necessary for wilderness designation and therefore warrant further study for inclusion in wilderness.

The NPS has also concluded that based on the findings of this Assessment, the “developed” segment of the Mineral King Addition and the Dillonwood Addition do not meet the criteria necessary for wilderness designation and therefore do not warrant further study for inclusion in wilderness. A transition zone between the Suitable (non-developed) and Non-Suitable (developed) segments in the Mineral King Addition, to allow for existing non-wilderness uses, is appropriate to consider in boundary delineation during the wilderness study process.

ADDRESSES: A copy of the Wilderness Suitability Assessment can be obtained by writing to: Superintendent, Attention: Wilderness Suitability Assessment, Sequoia and Kings Canyon National Parks 47050 Generals Highway, Three Rivers, CA 93271.

FOR FURTHER INFORMATION CONTACT: Requests for further information on the Wilderness Suitability Assessment should be directed to: Wilderness Coordinator, Sequoia and Kings Canyon National Parks, 47050 Generals Highway, Three Rivers, CA 93271.

SUPPLEMENTARY INFORMATION: These actions are in accordance with long standing policy and law. The Wilderness Act of 1964 and NPS Management Policies (2006; Chapter 6, Wilderness Preservation) require that the National Park Service review roadless and undeveloped areas, including new areas or expanded boundaries within the National Park system to determine whether they are suitable or not suitable for preserving as wilderness.

The assessment standards outlined in the 2006 NPS Management Policies to determine if a roadless, undeveloped area is suitable for preservation as wilderness are that it is over 5000 acres in size or of sufficient size to make practicable its preservation and use in an unimpaired condition, and meets five wilderness character criteria: (1) The earth and its community of life are untrammeled by humans, where humans are visitors and do not remain; (2) the area is undeveloped and retains its primeval character and influence, without permanent improvements or human habitation; (3) the area generally appears to have been affected primarily by the forces of nature, with the imprint of humans' work substantially unnoticeable; (4) the area is protected and managed so as to preserve its natural condition; and (5) the area offers outstanding opportunities for solitude or a primitive and unconfined type of recreation.

As part of the Wilderness Suitability Assessment, the parks solicited public input on the suitability of the subject area for designation as Wilderness: a press release was sent out on August 12, 2002 informing the public of the process with a description of the parcels, the criteria that need to be meet to merit inclusion, and an intitial September 27, 2002 closing date; in concert with the distribution of the press release, some 3,200 copies of the release were mailed to interested individuals and groups on the park's General Management Plan mailing list. The public comment period was then extended to October 18, 2002.

Dated: March 6, 2007.
Daniel N. Wenk,
Deputy Director.

[FR Doc. 07-1181 Filed 3-13-07; 8:45 am]

BILLING CODE 4312-69-M